DEPARTMENT OF DEFENSE

Office of the Secretary

Board of Visitors Meeting

AGENCY: Defense Acquisition University.

ACTION: Board of visitors meeting.

SUMMARY: The next meeting of the Defense Acquisition University (DAU) Board of Visitors (BoV) will be held at the Defense Acquisition University-San Diego Campus. The purpose of this meeting is to report back to the BoV on continuing items of interest.

DATES: January 26, 2005 from 0900-1500.

ADDRESSES: Admiral Kidd Conference Center, Fleet Anti-Submarine Warfare Center, Naval Base Point Loma, San Diego, CA.

FOR FURTHER INFORMATION CONTACT: Ms. Patricia Cizmadia at (703) 805-5134.

SUPPLEMENTARY INFORMATION: The meeting is open to the public; however, because of space limitations, allocation of seating will be made on a first-come, first served basis. Persons desiring to attend the meeting should call Ms. Patricia Cizmadia at (703) 805-5134.

Dated: January 4, 2005.
L.M. Bynum,
Alternate OSD Federal Register Liaison Officer, Department of Defense.

[FR Doc. 05-693 Filed 1-12-05; 8:45 am]

BILLING CODE 5001-06-M